CONSUMER PRODUCT SAFETY COMMISSION

16 CFR Ch. II

Semiannual Regulatory Agenda

AGENCY: U.S. Consumer Product Safety Commission.

ACTION: Semiannual regulatory agenda.

SUMMARY: In this document, the Commission publishes its semiannual regulatory flexibility agenda. In addition, this document includes an agenda of regulations that the Commission expects to develop or review during the next year. This document meets the requirements of the Regulatory Flexibility Act and Executive Order 12866.

DATES: The Commission welcomes comments on the agenda and on the individual agenda entries. Submit comments to the Division of the Secretariat on or before August 30, 2021.

ADDRESSES: Caption comments on the regulatory agenda, “Regulatory Flexibility Agenda.” You can submit comments by email to: cpsc-os@cpsc.gov. You can also submit comments by mail or delivery to the Division of the Secretariat, U.S. Consumer Product Safety Commission, Room 820, 4330 East West Highway, Bethesda, MD 20814-4408.

FOR FURTHER INFORMATION CONTACT: For further information on the agenda, in general, contact Meridith L. Kelsch, Office of the General Counsel, U.S. Consumer Product Safety Commission, 4330 East West Highway, Bethesda, MD 20814-4408, mkelsch@cpsc.gov. For further information regarding a particular item on the agenda, contact the person listed in the column titled, “Contact,” for that item.

SUPPLEMENTARY INFORMATION: The Regulatory Flexibility Act (RFA; 5 U.S.C. 601-612) contains several provisions intended to reduce unnecessary and disproportionate regulatory requirements on small businesses, small governmental organizations, and other small entities. Section 602 of the RFA requires each agency to publish, twice a year, a regulatory flexibility agenda containing “a brief description of the subject area of any rule which the agency expects to propose or promulgate which is likely to have a significant economic impact on a substantial number of small entities.” 5 U.S.C. 602. The agency must provide a summary of the nature of the rule, the objectives and legal basis for the rule, and an approximate schedule for acting on each rule for which the agency has issued a notice of proposed rulemaking. In addition, the regulatory flexibility agenda must contain the name and telephone number of an agency official who is knowledgeable about the listed items. Agencies must attempt to provide notice of their agendas to small entities and solicit their comments, by directly notifying them, or by including the agenda in publications that small entities are likely to obtain.

In addition, Executive Order 12866, Regulatory Planning and Review (Sep. 30, 1993), requires each agency to publish, twice a year, a regulatory agenda of regulations under development or review during the next year. 58 FR 51735 (Oct. 4, 1993). The Executive Order states that agencies may combine this agenda with the regulatory flexibility agenda required under the RFA. The agenda required by Executive Order 12866 must include all the regulations the agency expects to develop or review during the next 12 months, regardless of whether they may have a significant economic impact on a substantial number of small entities. This agenda also includes regulatory activities that the Commission listed in the fall 2020 agenda and completed before publishing this agenda.

The agenda contains a brief description and summary of each regulatory activity, including the objectives and legal basis for each; an approximate schedule of target dates, subject to revision, for developing or completing each activity; and the name and telephone number of an agency official who is knowledgeable about items in the agenda.

The internet is the primary means for disseminating the Unified Agenda. The complete Unified Agenda will be available online at: www.reginfo.gov, in a format that allows users to obtain information from the agenda database.

Because agencies must publish in the Federal Register the regulatory flexibility agenda required by the RFA (5 U.S.C. 602), the Commission's printed agenda entries include only:

(1) Rules that are in the agency's regulatory flexibility agenda, in accordance with the RFA, because they are likely to have a significant economic impact on a substantial number of small entities; and

(2) rules that the agency has identified for periodic review under section 610 of the RFA.

The entries in the Commission's printed agenda are limited to fields that contain information that the RFA requires in an agenda. Additional information on these entries is available in the Unified Agenda published on the internet.

The agenda reflects the Commission's assessment of the likelihood that the specified event will occur during the next year; the precise dates for each rulemaking are uncertain. New information, changes of circumstances, or changes in the law, may alter anticipated timing. In addition, you should not infer from this agenda a final determination by the Commission or its staff regarding the need for, or the substance of, any rule or regulation.

Dated: March 17, 2021.
Alberta E. Mills,
Secretary, Consumer Product Safety Commission.

Consumer Product Safety Commission—Final Rule Stage
Sequence No. | Title | Regulation Identifier No.
296 | Flammability Standard for Upholstered Furniture | 3041-AB35
297 | Regulatory Options for Table Saws | 3041-AC31

Consumer Product Safety Commission—Long-Term Actions
Sequence No. | Title | Regulation Identifier No.
298 | Portable Generators | 3041-AC36
299 | Recreational Off-Road Vehicles | 3041-AC78

CONSUMER PRODUCT SAFETY COMMISSION (CPSC)

Final Rule Stage

296. Flammability Standard for Upholstered Furniture

Legal Authority: 15 U.S.C. 1193; 5 U.S.C. 801

Abstract: The Commission published a notice of proposed rulemaking (NPRM) to prescribe flammability standards for upholstered furniture under the Flammable Fabrics Act (FFA) to address the risk of fire associated with cigarette and small open-flame ignitions of upholstered furniture. The Commission's proposed rule would require that upholstered furniture have cigarette-resistant fabrics or cigarette and open flame-resistant barriers. The proposed rule would not require flame-resistant chemicals in fabrics or fillings. Since the Commission published the NPRM, Congress signed into law, “COVID-19 Regulatory Relief and Work From Home Safety Act,” Public Law 116-260 (COVID-19 Act). Section 2101 of the COVID-19 Act mandates that, 180 days after the date of enactment of the COVID-19 Act, the standard for upholstered furniture set forth by the Bureau of Electronic and Appliance Repair, Home Furnishings and Thermal Insulation of the Department of Consumer Affairs of the State of California in Technical Bulletin 117-2013, entitled “Requirements, Test Procedure and Apparatus for Testing the Smolder Resistance of Materials Used in Upholstered Furniture,” originally published June 2013, “shall be considered to be a flammability standard promulgated by the Consumer Product Safety Commission under section 4 of the Flammable Fabrics Act (15 U.S.C. 1193).” In light of the enactment of the COVID-19 Act, in FY 2021, staff intends to submit a briefing package to the Commission that recommends that the NPRM be withdrawn.

Timetable:

Action | Date | FR Cite
ANPRM | 06/15/94 | 59 FR 30735
Commission Hearing May 5 & 6, 1998 on Possible Toxicity of Flame-Retardant Chemicals | 03/17/98 | 63 FR 13017
Meeting Notice | 03/20/02 | 67 FR 12916
Notice of Public Meeting | 08/27/03 | 68 FR 51564
Public Meeting | 09/24/03 |
ANPRM | 10/23/03 | 68 FR 60629
ANPRM Comment Period End | 12/22/03 |
Staff Held Public Meeting | 10/28/04 |
Staff Held Public Meeting | 05/18/05 |
Staff Sent Status Report to Commission | 01/31/06 |
Staff Sent Status Report to Commission | 11/03/06 |
Staff Sent Status Report to Commission | 12/28/06 |
Staff Sent Options Package to Commission | 12/22/07 |
Commission Decision to Direct Staff to Prepare Draft NPRM | 12/27/07 |
Staff Sent Draft NPRM to Commission | 01/22/08 |
Commission Decision to Publish NPRM | 02/01/08 |
NPRM | 03/04/08 | 73 FR 11702
NPRM Comment Period End | 05/19/08 |
Staff Published NIST Report on Standard Test Cigarettes | 05/19/09 |
Staff Publishes NIST Report on Standard Research Foam | 09/14/12 |
Notice of April 25 Public Meeting and Request for Comments | 03/20/13 | 78 FR 17140
Staff Holds Upholstered Furniture Fire Safety Technology Meeting | 04/25/13 |
Comment Period End | 07/01/13 |
Staff Sends Briefing Package to Commission on California's TB 117-2013 | 09/08/16 |
Staff Sends Options Package to the Commission | 09/25/19 |
Commission Decision | 10/04/19 |
Staff Submits Final Rule Briefing Package Withdrawing the NPRM | 09/00/21 |

Regulatory Flexibility Analysis Required: Yes.

Agency Contact: Andrew Lock, Project Manager, Directorate for Laboratory Sciences, Consumer Product Safety Commission, National Product Testing and Evaluation Center, 5 Research Place, Rockville, MD 20850, Phone: 301 987-2099, Email: alock@cpsc.gov.

RIN: 3041-AB35

297. Regulatory Options for Table Saws

Legal Authority: 5 U.S.C. 553(e); 15 U.S.C. 2051

Abstract: In 2006, the Commission granted a petition asking that the Commission issue a rule to prescribe performance standards for an active injury mitigation system to reduce or prevent injuries from contacting the blade of a table saw. The Commission subsequently issued a notice of proposed rulemaking (NPRM) that would establish a performance standard requiring table saws to limit the depth of cut to 3.5 millimeters when a test probe, acting as a surrogate for a human body/finger, contacts the table saw's spinning blade. Staff has conducted several studies to provide information for the rulemaking. Staff is working on a final rule briefing package.

Timetable:

Action | Date | FR Cite
Commission Decision to Grant Petition | 07/11/06 |
ANPRM | 10/11/11 | 76 FR 62678
Notice of Extension of Time for Comments | 12/02/11 | 76 FR 75504
Comment Period End | 02/10/12 |
Notice to Reopen Comment Period | 02/15/12 | 77 FR 8751
Reopened Comment Period End | 03/16/12 |
Staff Sent NPRM Briefing Package to Commission | 01/17/17 |
Commission Decision | 04/27/17 |
NPRM | 05/12/17 | 82 FR 22190
NPRM Comment Period End | 07/26/17 |
Public Hearing | 08/09/17 | 82 FR 31035
Staff Sent 2016 NEISS Table Saw Type Study Status Report to Commission | 08/15/17 |
Staff Sent 2017 NEISS Table Saw Special Study to Commission | 11/13/18 |
Notice of Availability of 2017 NEISS Table Saw Special Study | 12/04/18 | 83 FR 62561
Staff Sends a Status Briefing Package on Table Saws to Commission | 08/28/19 |
Commission Decision | 09/10/19 |
Staff Sends Final Rule Briefing Package to Commission | 09/00/21 |

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC31

CONSUMER PRODUCT SAFETY COMMISSION (CPSC)

Long-Term Actions

298. Portable Generators

Legal Authority: 15 U.S.C. 2051

Abstract: In 2006, the Commission issued an advance notice of proposed rulemaking (ANPRM) under the Consumer Product Safety Act (CPSA) concerning portable generators. The ANPRM discussed regulatory options that could reduce deaths and injuries related to portable generators, particularly those involving carbon monoxide (CO) poisoning. In FY 2006, staff awarded a contract to develop a prototype generator engine with reduced CO in the exhaust. Also, in FY 2006, staff entered into an interagency agreement (IAG) with the National Institute of Standards and Technology (NIST) to conduct tests with a generator, in both off-the-shelf and prototype configurations, operating in the garage attached to NIST's test house. In FY 2009, staff entered into a second IAG with NIST with the goal of developing CO emission performance requirements for a possible proposed regulation that would be based on health effects criteria. After additional staff and contractor work, the Commission issued a notice of proposed rulemaking (NPRM) in 2016, proposing a performance standard that would limit the CO emission rates from operating portable generators. In 2018, two voluntary standards adopted different CO mitigation requirements intended to address the CO poisoning hazard associated with portable generators. Staff developed a simulation and analysis plan to evaluate the effectiveness of those voluntary standards' requirements. In 2019, the Commission sought public comments on staff's plan. In August 2020, staff submitted to the Commission a draft notice of availability of the modified plan, based on staff's review and consideration of the comments, for evaluating the voluntary standards; the Commission published the notice of availability in August 2020. Staff is now executing the modified plan.

Timetable:

Action | Date | FR Cite
Staff Sent ANPRM to Commission | 07/06/06 |
Staff Sent Supplemental Material to Commission | 10/12/06 |
Commission Decision | 10/26/06 |
Staff Sent Draft ANPRM to Commission | 11/21/06 |
ANPRM | 12/12/06 | 71 FR 74472
ANPRM Comment Period End | 02/12/07 |
Staff Releases Research Report for Comment | 10/10/12 |
NPRM | 11/21/16 | 81 FR 83556
NPRM Comment Period Extended | 12/13/16 | 81 FR 89888
Public Hearing for Oral Comments | 03/08/17 | 82 FR 8907
NPRM Comment Period End | 04/24/17 |
Staff Sends Notice of Availability to the Commission | 06/26/19 |
Commission Decision | 07/02/19 |
Notice of Availability | 07/09/19 | 84 FR 32729
Staff Sends Notice of Availability to Commission | 08/12/20 |
Commission Decision | 08/19/20 |
Notice of Availability | 08/24/20 | 85 FR 52096
Staff Report on Evaluation of Voluntary Standards | To Be Determined

Regulatory Flexibility Analysis Required: Yes.

Agency Contact: Janet L. Buyer, Project Manager, Directorate for Engineering Sciences, Consumer Product Safety Commission, National Product Testing and Evaluation Center, 5 Research Place, Rockville, MD 20850, Phone: 301 987-2293, Email: jbuyer@cpsc.gov.

RIN: 3014-AC36

299. Recreational Off-Road Vehicles

Legal Authority: 15 U.S.C. 2056; 15 U.S.C. 2058

Abstract: The Commission is considering whether recreational off-road vehicles (ROVs) present an unreasonable risk of injury that should be regulated. Staff conducted testing and evaluation programs to develop performance requirements addressing vehicle stability, vehicle handling, and occupant protection. In 2014, the Commission issued an NPRM proposing standards addressing vehicle stability, vehicle handling, and occupant protection. Congress directed in fiscal year 2016, and reaffirmed in subsequent fiscal year appropriations, that none of the amounts made available by the Appropriations Bill may be used to finalize or implement the proposed Safety Standard for Recreational Off-Highway Vehicles until after the National Academy of Sciences completes a study to determine specific information as set forth in the Appropriations Bill. Staff ceased work on a Final Rule briefing package and instead engaged the Recreational Off-Highway Vehicle Association (ROHVA) and Outdoor Power Equipment Institute (OPEI) in the development of voluntary standards for ROVs. Staff conducted dynamic and static tests on ROVs, shared test results with ROHVA and OPEI, and participated in the development of revised voluntary standards to address staff's concerns with vehicle stability, vehicle handling, and occupant protection. The voluntary standards for ROVs were revised and published in 2016 (ANSI/ROHVA 1-2016 and ANSI/OPEI B71.9-2016). Staff assessed the new voluntary standard requirements and prepared a termination of rulemaking briefing package that was submitted to the Commission on November 22, 2016. The Commission voted not to terminate the rulemaking associated with ROVs. In the FY 2020 Operating Plan, the Commission directed staff to prepare a rulemaking termination briefing package. Staff submitted a briefing package to the Commission on September 16, 2020 that recommended termination of rulemaking. On September 22, 2020 the Commission voted 2-2 on this matter. A majority was not reached and no action will be taken.

Timetable:

Action | Date | FR Cite
Staff Sends ANPRM Briefing Package to Commission | 10/07/09 |
Commission Decision | 10/21/09 |
ANPRM | 10/28/09 | 74 FR 55495
ANPRM Comment Period Extended | 12/22/09 | 74 FR 67987
Extended Comment Period End | 03/15/10 |
Staff Sends NPRM Briefing Package to Commission | 09/24/14 |
Staff Sends Supplemental Information on ROVs to Commission | 10/17/14 |
Commission Decision | 10/29/14 |
NPRM Published in Federal Register | 11/19/14 | 79 FR 68964
NPRM Comment Period Extended | 01/23/15 | 80 FR 3535
Extended Comment Period End | 04/08/15 |
Staff Sends Briefing Package Assessing Voluntary Standards to Commission | 11/22/16 |
Commission Decision Not to Terminate | 01/25/17 |
Staff Sends Briefing Package to Commission | 09/16/20 |
Commission Decision: majority not reached, no action will be taken | 09/22/20 |
Next Step Undetermined | To Be Determined

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC78

[FR Doc. 2021-14878 Filed 7-29-21; 8:45 am]

BILLING CODE 6355-01-P